NATIONAL TRANSPORTATION SAFETY BOARD

Sunshine Act Meeting

TIME AND DATE: 9:30 a.m. EDT, December 13, 2022.

PLACE: Virtual.

STATUS: The one item may be viewed by the public through webcast only.

MATTERS TO BE CONSIDERED:

69049 Safety Research Report—Alcohol, Other Drug, and Multiple Drug Use Among Drivers.

CONTACT PERSON FOR MORE INFORMATION: Candi Bing at (202) 590-8384 or by email at bingc@ntsb.gov.

Media Information Contact: Sarah Sulick by email at Sarah.Sulick@ntsb.gov at (202) 314-6100.

This meeting will take place virtually. The public may view it through a live or archived webcast by accessing a link under “Upcoming Events” on the NTSB home page at www.ntsb.gov.

There may be changes to this event due to the evolving situation concerning the novel coronavirus (COVID-19). Schedule updates, including weather-related cancellations, are also available at www.ntsb.gov.

The National Transportation Safety Board is holding this meeting under the Government in the Sunshine Act, 5 U.S.C. 552(b).

Dated: November 18, 2022.
LaSean R. McCray,
Assistant Federal Register Liaison Officer.

[FR Doc. 2022-25637 Filed 11-18-22; 4:15 pm]

BILLING CODE 7533-01-P